DEPARTMENT OF AGRICULTURE

National Sheep Industry Improvement Center; Solicitation of Nominations of Board Members

AGENCY: National Sheep Industry Improvement Center, USDA.

ACTION: Notice: Invitation to submit nominations.

SUMMARY: The National Sheep Industry Improvement Center (NSIIC) announces that it is accepting nominations for the Board of Directors of the National Sheep Industry Improvement Center for two voting directors' positions whose terms expire on February 13, 2004. One position is for a member who have has expertise in lamb, wool, goat, or goat product marketing expertise and one position is for a member who is an active producer of sheep or goats. Board members manage and oversee the Center's activities. Nominations may only be submitted by National organizations that consist primarily of active sheep or goat producers in the United States and who have as their primary interest the production of sheep or goats in the United States. Nominating organizations should submit:

(1) Substantiation that the nominating organization is national in scope,

(2) The number and percent of members that are active sheep or goat producers,

(3) Substantiation of the primary interests of the organization, and

(4) An Advisory Committee Membership Background Information form (Form AD-755) for each nominee.

This action is taken in accordance with 7 U.S.C. 2008j(f), which establishes the powers and composition of the Board of Directors for the National Sheep Industry Improvement Center.

DATES: Completed nominations must be received no later than December 29, 2003. Nominations received after that date will not be considered.

ADDRESSES: Submit nominations and statements of qualifications to Jay B. Wilson, Executive Director/CEO, National Sheep Industry Improvement Center, USDA, PO Box 23483, Washington, DC 20026-3483, if using the U.S. Postal Service; or Room 2117, STOP 3250, South Agriculture Building, 1400 Independence Avenue, SW., Washington, DC 20250-3250, if using other carriers.

FOR FURTHER INFORMATION CONTACT: Jay B. Wilson, Executive Director/CEO, National Sheep Industry Improvement Center, USDA, PO Box 23483, Washington, DC 20026-3483, if using the U.S. Postal Service; or Room 2117, Stop 3250, South Agriculture Building, 1400 Independence Avenue, SW., Washington, DC 20250, if using other carriers. Telephone (202) 690-0632, (This is not a toll free number), FAX 202-720-1053. Forms and other information can be found at www.nsiic.org.

SUPPLEMENTARY INFORMATION: The NSIIC, or Sheep Center (Center), is authorized under 7 U.S.C. 2008j. The Center shall: (1) Promote strategic development activities and collaborative efforts by private and State entities to maximize the impact of Federal assistance to strengthen and enhance production and marketing of sheep or goat products in the United States; (2) optimize the use of available human capital and resources within the sheep or goat industries; (3) provide assistance to meet the needs of the sheep or goat industry for infrastructure development, business development, production, resource development, and market and environmental research; (4) advance activities that empower and build the capacity of the United States sheep or goat industry to design unique responses to special needs of the sheep or goat industries on both a regional and national basis; and (5) adopt flexible and innovative approaches to solving the long-term needs of the United States sheep or goat industry.

The management of NSIIC is vested in a Board of Directors that is appointed by, and reports to the Secretary of Agriculture. The Board of Directors is composed of seven voting members of whom four are active producers of sheep or goats in the United States, two have expertise in finance and management, and one has expertise in lamb, wool, goat or goat product marketing. Of the two open positions, one position is for a member with expertise in lamb, wool, goat, or goat product marketing and one position is for a member who is an active producer of sheep or goats. The Board also includes two non-voting members, the Under Secretary of Agriculture for Rural Development and the Under Secretary of Agriculture for Research, Education, and Economics. The Executive Director serves as the CEO.

The Secretary of Agriculture shall appoint the voting members from the submitted nominations. Member's term of office shall be three years. Voting members are limited to two terms. Each of the two positions for which nominees are being sought is currently held by members who are eligible to be re-nominated.

The Board shall meet not less than once each fiscal year, but is likely to meet at least quarterly. Board members will not receive compensation for serving on the Board of Directors, but shall be reimbursed for travel, subsistence, and other necessary expenses.

The statement of qualifications of the individual nominees is obtained by using Form AD-755, “Advisory Committee Membership Background Information,” which can be accessed at www.nsiic.org. The requirements of this form are incorporated under OMB number 0505-0001.

Dated: November 4, 2003.
Jay B. Wilson,
Executive Director/CEO, National Sheep Industry Improvement Center.

[FR Doc. 03-28345 Filed 11-10-03; 8:45 am]

BILLING CODE 1351-01-P